DEPARTMENT OF HEALTH AND HUMAN SERVICES

National Institutes of Health

Office of the Director, Office of Biotechnology Activities; Notice of a Safety Symposium

There will be a safety symposium entitled “Gene-Modified T Cells: Challenges in Clinical Trial Design with Novel Receptors.” The meeting will be open to the public, with attendance limited to space available. Individuals who plan to attend and need special assistance, such as sign language interpretation or other reasonable accommodations, should notify the Contact Person listed below in advance of the meeting. For further information concerning this meeting contact Ms. Chezelle George, Administrative Assistant, Office of Biotechnology Activities, Office of the Director, National Institutes of Health, 6705 Rockledge Drive, Room 750, Bethesda, MD 20892-7985, 301-496-9838, georgec@mail.nih.gov.

Name of Committee: Recombinant DNA Advisory Committee.

Date: June 15, 2010.

Time: 8 a.m. to 5:30 p.m.

Agenda: The Office of Biotechnology Activities (OBA) and NIH Recombinant DNA Advisory Committee will host a symposium entitled “Gene Modified T Cells: Challenges in Clinical Trial Design with Novel Receptors” on June 15, 2010 at the Rockville Hotel and Executive Center. Experts will discuss data from trials conducted to date, the selection of novel antigen targets, the potential risks of off-target effects and clinical trial design strategies that can maximize both anti-tumor effect and safety. An agenda will be posted to OBA's Web site closer to the meeting date. Please check the meeting agenda at http://oba.od.nih.gov/rdna/rdna.html for more information.

Place: Rockville Hotel and Executive Center, 1750 Rockville Pike, Rockville, MD 20892.

Contact Person: Chezelle George, Administrative Assistant, Office of Science Policy, Office of Biotechnology Activities, National Institutes of Health, 6705 Rockledge Drive, Suite 750-A1, Bethesda, MD 20892, 301-496-9838, georgec@mail.nih.gov.

Any interested person may file written comments with the panel by forwarding the statement to the Contact Person listed on this notice. The statement should include the name, address, telephone number and when applicable, the business or professional affiliation of the interested person. Background information may be obtained by contacting NIH OBA by e-mail oba@od.nih.gov

Dated: April 29, 2010.
Jacqueline Corrigan-Curay,
Acting Director, Office of Biotechnology Activities, National Institutes of Health.

[FR Doc. 2010-10864 Filed 5-6-10; 8:45 am]

BILLING CODE 4140-01-P